DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “The AHRQ Data Inventory.” In accordance with the Paperwork Reduction Act of 1995, 44 U.S.C. 3506(c)(2)(A), AHRQ invites the public to comment on this proposed information collection.

DATES: Comments on this notice must be received by December 23, 2008.

ADDRESSES: Written comments should be submitted to: Doris Lefkowitz, Reports Clearance Officer, AHRQ, by e-mail at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

“The AHRQ Data Inventory”

The Agency for Healthcare Research and Quality (AHRQ) is interested in determining the availability of regularly collected administrative and other data collection initiatives about outpatient health service utilization. AHRQ seeks to better understand issues in developing data collection initiatives, redundancies in these initiatives, uses of available data, gaps in available information, similarities across data projects, and areas for possible collaboration and coordination. AHRQ's initial focus is on those data sets that would inform healthcare providers, policymakers, and consumers about outpatient health service utilization and episodes of care.

The primary purpose of this information collection is to comprehensively document outpatient health care data collection initiatives in the 50 states, the District of Columbia, and other geographic units. Information being collected about the data sets is not readily available to the public. In-depth information about the data sets will provide guidance to AHRQ on the potential synergy across such initiatives and suggest how the information can inform Federal, State, and local health care policymakers, clinicians, and consumers. Information collected during the interviews will comprehensively document outpatient health care data collection initiatives.

This project is important for several reasons. First, many data collection initiatives exist or are in the planning stages, but there is limited collaboration and synthesis among initiatives. With limited resources and common goals, it is imperative to understand the issues in developing data collection initiatives, redundancies in such initiatives, and gaps in available information. Second, with the increasing costs of health care, it has become more important than ever to use health services efficiently, yet care and information about care is often collected and delivered in isolation without coordination across sites or providers of care. The results of this project will provide AHRQ and other policymakers with the information they need to serve as a catalyst to promote coordinated standardization, reduce redundancies, identify gaps in information, and assist in further development of needed data efforts.

This project is being conducted pursuant to AHRQ's statutory mandates to (1) Promote health care quality improvement by conducting and supporting research that develops and presents scientific evidence regarding all aspects of health care, including the costs and utilization of, and access to, health care and the ways in which health care services are organized, delivered, and financed (42 U.S.C. 299(b)(1)(D) and (E)); (2) conduct and support research on health care and on systems for the delivery of such care (42 U.S.C. 299a(a)); and (3) conduct and support research to advance the creation of effective linkages between various sources of health information (42 U.S.C. 299b-3(a)(3)).

Method of Collection

The survey will be initiated with an e-mail message from AHRQ to managers/administrators of each data set selected for inclusion in the Inventory. Data sets listed in the inventory were identified from a search of Web-based information about outpatient and ambulatory patient care data sets. The initial contact will be followed by an e-mail distribution of a cover letter and the questionnaire. The cover letter will include information about the purpose of the study, reason respondents are being contacted, information about the nondisclosure of their responses, and a request to have respondents review information captured from the Internet about their data sets. In addition, respondents will be informed that they have the option to complete and return the questionnaire electronically or participate in a telephone interview. Respondents who do not return their questionnaires by the requested time will get an e-mail reminder. The e-mail reminder will be followed by a telephone reminder.

Estimated Annual Respondent Burden

Exhibit 1 shows the estimated annual burden hours for the respondent's time to participate in this project. A maximum of 80 respondents will complete the survey questionnaire which will require about 45 minutes to complete. The total estimated burden hours for this information collection is 60 hours.

Exhibit 2 shows the estimated cost burden based on the respondent's time to participate in this project. The total cost burden is approximately $2,993.

Exhibit 1—Estimated Annualized Burden Hours
Form name | Number of respondents | Number of responses per respondent | Hours per response | Total burden hours
Inventory Survey | 80 | 1 | 45/60 | 60
Total | 80 | 1 | NA | 60

Exhibit 2—Estimated annualized Cost Burden
Form name | Number of respondents | Total burden hours | Average hourly wage rate* | Total cost burden
Inventory Survey | 80 | 60 | $49.89 | $2,993
Total | 80 | 60 | NA | 2,993
* Based upon the mean of general and operations managers (11-1021), National Compensation Survey: Occupational wages in the United States 2007, U.S. Department of Labor, Bureau of Labor Statistics.

Estimated Annual Costs to the Federal Government

This one-year project is estimated to cost the government $136,000. Exhibit 3 details the costs associated with this project, which include $11,000 for project development, $72,500 for data collection and analysis, $12,000 for preparing reports, $20,000 for project management and $21,000 for overhead.

Exhibit 3—Project Costs
Cost component | Total cost
Project Development | $11,000.00
Data Collection and Analysis | 72,500.00
Preparation of Reports | 12,000.00
Project Management | 20,000.00
Overhead | 21,000.00
Total | 136,500.00

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: October 14, 2008.
Carolyn M. Clancy,
Director.

[FR Doc. E8-25044 Filed 10-23-08; 8:45 am]

BILLING CODE 4160-90-M